DEPARTMENT OF ENERGY

Federal Energy Regulatory Commission

Sunshine Act Meeting Notice

January 14, 2010.

The following notice of meeting is published pursuant to section 3(a) of the government in the Sunshine Act (Pub. L. 94-409), 5 U.S.C. 552b:

Agency Holding Meeting: Federal Energy Regulatory Commission.

Date And Time: January 21, 2010, 10 a.m.

Place: Room 2C, 888 First Street, NE., Washington, DC 20426.

Status: Open.

Matters To Be Considered: Agenda.

* Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's website at http://www.ferc.gov using the eLibrary link, or may be examined in the Commission's Public Reference Room.

955th—Meeting; Regular Meeting, January 21, 2010, 10 a.m.
Item No | Docket No. | Company
Administrative
A-1 | AD02-1-000 | Agency Administrative Matters—FERC Strategic Plan.
A-2 | AD02-7-000 | Customer Matters, Reliability, Security and Market Operations.
Electric
E-1 | RM09-16-000 | Control and Affiliation for Purposes of Market-Based Rate Requirements under Section 205 of the Federal Power Act and the Requirements of Section 203 of the Federal Power Act.
E-2 | RM10-13-000 | Credit Reforms in Organized Wholesale Electric Markets.
E-3 | RM10-12-000 | Electricity Market Transparency Provisions of Section 220 of the Federal Power Act.
E-4 | RM10-11-000 | Integration of Variable Energy Resources.
E-5 | ER09-75-002 | Pioneer Transmission, LLC.
E-6 | EL10-19-000 | Western Grid Development, LLC.
E-7 | ER09-1051-000 | ISO New England Inc. and New England Power Pool.
E-8 | RM08-7-002 | Modification of Interchange and Transmission Loading Relief Reliability Standards; and Electric Reliability Organization Interpretation of Specific Requirements of Four Reliability Standards.
E-9 | RM10-9-000 | Transmission Loading Relief Reliability Standard and Curtailment Priorities.
E-10 | RR10-1-000 | North American Electric Reliability Corporation.
E-11 | RD09-10-000 | North American Electric Reliability Corporation.
E-12 | ER09-1247-002, ER09-1247-003, ER09-1247-004 | California Independent System Operator Corporation.
E-13 | ER10-305-000, EL10-5-000, ER95-1207-000 | Xcel Energy Services Inc. Public Service Company of Colorado.
| ER09-980-001 | Western Systems Power Pool Inc.
E-14 | EL09-40-000 | Southwest Power Pool, Inc.
E-15 | EL10-7-000 | Power and Water Resources Pooling Authority, Complainant, v. Pacific Gas and Electric Company, Respondent.
E-16 | OA08-62-005 | California Independent System Operator Corporation.
E-17 | EL05-121-006 | PJM Interconnection, L.L.C.
Miscellaneous
M-1 | RM01-5-000 | Electronic Tariff Filings.
Gas
G-1 | RM08-2-001 | Pipeline Posting Requirements under Section 23 of the Natural Gas Act.
G-2 | RP06-569-000, RP07-376-000 (consolidated) | Transcontinental Gas Pipe Line Corporation.
G-3 | RP09-809-001, RP09-809-000 | Maritimes & Northeast Pipeline, L.L.C.
Hydro
H-1 | P-11879-029 | Fall River Rural Electric Cooperative, Inc.
H-2 | P-2197-097 | Alcoa Power Generating Inc.
H-3 | P-2417-061 | Northern States Power Company.

Certificates

There are no Certificate items scheduled at this time.

Kimberly D. Bose,
Secretary.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-1005 Filed 1-15-10; 11:15 am]

BILLING CODE 6717-01-P